NUCLEAR REGULATORY COMMISSION

[Docket No. 030-04783]

Notice of Availability of Environmental Assessment and Finding of No Significant Impact for a License Amendment for the Dow Chemical Company Facility in Midland, MI

I. Introduction

The U.S. Nuclear Regulatory Commission is considering amending The Dow Chemical Company (Dow Chemical) Byproduct Material License Number 21-00265-06 to authorize the use a new incinerator for the disposal of radioactive waste at its facility in Midland, Michigan and has prepared an Environmental Assessment (EA) in support of this action in accordance with the requirements in 10 CFR part 51. Based on the EA, the NRC has concluded that a Finding of No Significant Impact (FONSI) is appropriate.

II. EA Summary

An EA has been prepared to evaluate the environmental impacts of the proposed amendment to Dow Chemical Byproduct Material License to authorize the licensee to use a new incinerator for the disposal of radioactive waste at its facility in Midland, Michigan. The amendment would reflect that radioactive waste will be disposed of using a new 33 Incinerator instead of either the 703 or 830 Incinerators. Pursuant to 10 CFR 20.1302 and 10 CFR 20.2002, the license has been authorized since 1966 to dispose of licensed material by incineration, provided the gaseous effluents from incineration did not exceed ten percent of the limits specified in Appendix B, Table II, 10 CFR Part 20.

On October 28, 2002, Dow Chemical notified the NRC that, to meet U.S. Environmental Protection Agency (EPA) requirements, it was in the process of upgrading its Incineration Complex from two existing rotary kilns (703 Incinerator and 830 Incinerator) which are currently used to incinerate waste, to a single story rotary kiln. The new kiln is close to completion, and is expected to begin operation by October 1, 2003. Although both existing kilns are licensed to incinerate radioactive waste, only the 703 Incinerator has been used for that purpose. The 830 Incinerator had been licensed to burn radioactive waste in 1998 in anticipation of it being upgraded to meet the new EPA requirements, but Dow Chemical subsequently decided to build a new incinerator in place of upgrading the 830 Incinerator.

III. Finding of No Significant Impact

The NRC staff has evaluated Dow Chemical's request in an EA (summarized above). On the basis of the EA, NRC has concluded that there will not be a significant effect on the quality of the human environment resulting from the incineration of radioactive waste in the 32 Incinerator at its facility in Midland, Michigan. Accordingly, NRC has concluded that a FONSI is appropriate and has determined not to prepare an Environmental Impact Statement for the proposed action.

IV. Further Information

The Environmental Assessment and other documents related to this proposed action, including the application for the license amendment and supporting documentation, are available for inspection at NRC's Public Electronic Reading Room at http://www.nrc.gov/reading-rm/adams.html. ADAMS Accession No. ML031470394 and ML031540803 for the licensee's letter requesting the amendment and ML031540819 for other documents related to this action). These documents are also available for inspection and copying for a fee at the Region III Office, 801 Warrenville Road, Lisle, Illinois 60532-4351. Any questions with respect to this action should be referred to William Snell, Health Physics Manager, Decommissioning Branch, Division of Nuclear Materials Safety (DNMS), Region III, 801 Warrenville Road, Lisle, Illinois 60532-4351; telephone (630) 829-9871 or by email at wgs@nrc.gov.

Dated at Lisle, Illinois, this 10th day of June, 2003.
Christopher G. Miller,
Chief, Decommissioning Branch, Division of Nuclear Materials Safety, RIII.

[FR Doc. 03-15733 Filed 6-20-03; 8:45 am]

BILLING CODE 7590-01-M